DEPARTMENT OF COMMERCE

National Oceanic and Atmospheric Administration

50 CFR Part 648

[Docket No. 200623-0167; RTID 0648-XA706]

Fisheries of the Northeastern United States; Atlantic Bluefish Fishery; Quota Transfers From MA to NC, DE to RI, and VA to NY

AGENCY: National Marine Fisheries Service (NMFS), National Oceanic and Atmospheric Administration (NOAA), Commerce.

ACTION: Notification; quota transfers.

SUMMARY: NMFS announces that the Commonwealth of Massachusetts, the State of Delaware, and the Commonwealth of Virginia are transferring a portion of their 2020 commercial bluefish quota to the State of North Carolina, the State of Rhode Island, and the State of New York, respectively. These quota adjustments are necessary to comply with the Atlantic Bluefish Fishery Management Plan quota transfer provisions. This announcement informs the public of the revised commercial bluefish quotas for Massachusetts, North Carolina, Delaware, Rhode Island, Virginia, and New York.

DATES: Effective December 14, 2020 through December 31, 2020.

FOR FURTHER INFORMATION CONTACT: Laura Hansen, Fishery Management Specialist, (978) 281-9225.

SUPPLEMENTARY INFORMATION: Regulations governing the Atlantic bluefish fishery are found in 50 CFR 648.160 through 648.167. These regulations require annual specification of a commercial quota that is apportioned among the coastal states from Maine through Florida. The process to set the annual commercial quota and the percent allocated to each state is described in § 648.162, and the final 2020 allocations were published on June 29, 2020 (85 FR 38794).

The final rule implementing Amendment 1 to the Bluefish Fishery Management Plan (FMP) published in the Federal Register on July 26, 2000 (65 FR 45844), and provided a mechanism for transferring bluefish quota from one state to another. Two or more states, under mutual agreement and with the concurrence of the NMFS Greater Atlantic Regional Administrator, can request approval to transfer or combine bluefish commercial quota under § 648.162(e)(1)(i) through (iii). The Regional Administrator must approve any such transfer based on the criteria in § 648.162(e). In evaluating requests to transfer a quota or combine quotas, the Regional Administrator shall consider whether: The transfer or combinations would preclude the overall annual quota from being fully harvested; the transfer addresses an unforeseen variation or contingency in the fishery; and the transfer is consistent with the objectives of the FMP and the Magnuson-Stevens Fishery Conservation and Management Act.

Massachusetts is transferring 55,000 lb (24,948 kg) of bluefish commercial quota to North Carolina; Delaware is transferring 30,000 lb (13,608 kg) to Rhode Island; and Virginia is transferring 50,000 lb (22,679 kg) to New York, through mutual agreement of the states. These transfers were requested to ensure that North Carolina, Rhode Island, and New York would not exceed their 2020 state quotas. The revised bluefish quotas for 2020 are: Massachusetts, 115,838 lb (52,543 kg); North Carolina, 1,056,058 lb (479,020 kg); Delaware, 21,966 lb (9,964 kg); Rhode Island, 343,366 lb (155,748 kg); Virginia, 203,682 lb (92,389 kg); and New York, 387,335 lb (175,692 kg).

Classification

NMFS issues this action pursuant to section 305(d) of the Magnuson-Stevens Act. This action is required by 50 CFR 648.162(e)(1)(i) through (iii), which was issued pursuant to section 304(b), and is exempt from review under Executive Order 12866.

Authority: 16 U.S.C. 1801 et seq.

Dated: December 10, 2020.
Jennifer M. Wallace,
Acting Director, Office of Sustainable Fisheries, National Marine Fisheries Service.

[FR Doc. 2020-27538 Filed 12-14-20; 8:45 am]

BILLING CODE 3510-22-P